DEPARTMENT OF THE INTERIOR

Bureau of Indian Affairs

[256A2100DD/AAKC001030/A0A501010.999900]

Public Meeting of the Advisory Board of Exceptional Children

AGENCY: Bureau of Indian Affairs, Interior

ACTION: Notice of Meeting.

SUMMARY: The Bureau of Indian Education (BIE) is announcing that the Advisory Board for Exceptional Children will hold a two day in-person and online meeting. The purpose of the meeting is to meet the mandates of the Individuals with Disabilities Education Act of 2004 (IDEA) for Indian children with disabilities.

DATES: The BIE Advisory Board meeting will be held Thursday, January 16, 2025, from 8 a.m. to 4 p.m. MST, and Friday, January 17, 2025, from 8 a.m. to 4 p.m. MST.

ADDRESSES: This onsite meeting location will be at the National Indian Programs Training Center (NIPTC), 1011 Indian School Rd. NW, Suite 254, Albuquerque, NM 87104. To attend virtually, participants may use this link to register: https://www.zoomgov.com/meeting/register/vJItfumuqzMvElVjV-NKIxkRF77klX1hDKI. Attendees register once and can attend one or both meeting events. After registering, you will receive a confirmation email containing information about joining the meeting.

Comments: Public comments can be emailed to the DFO at Jennifer.davis@bie.edu; or faxed to (602) 265-0293 Attention: Jennifer Davis, DFO; or mailed or hand delivered to the Bureau of Indian Education, Attention: Jennifer Davis, DFO, 2600 N Central Ave., 12th floor, Suite 250, Phoenix, AZ 85004.

FOR FURTHER INFORMATION CONTACT: Jennifer Davis, Designated Federal Officer, Bureau of Indian Education, 2600 N. Central Ave., 12th floor, Suite 250, Phoenix, AZ 85004, Jennifer.Davis@bie.edu, or mobile phone (202) 860-7845.

SUPPLEMENTARY INFORMATION: In accordance with the Federal Advisory Committee Act (5 U.S.C. Ch. 10), the BIE is announcing the Advisory Board will hold its next meeting in-person and online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Meeting Agenda Items

The following agenda items will be for January 16-17, 2025, meeting:

• A Panel Discussion: Early Childhood Transition; and A Panel Discussion: Secondary Transition.

• A Panel Discussion with Transition Specialist (Pre-Kindergarten through grade 12), to include Early Childhood Transition and Secondary Transition.

• BIE Special Education Program—Transition Updates

• BIE Behavior Wellness Program—Updates and overview about the program.

• The Committee will work on and finalize the next meeting agenda and logistics steps each meeting day.

• Public Commenting Sessions will be opened any time throughout both meeting days to encourage public input. Public comments can be provided verbally via webinar or in writing using the chat box. Please use the online access codes as listed below.

○ Public comments can also be emailed to the DFO at Jennifer.Davis@bie.edu; or faxed to (602) 265-0293 Attention: Jennifer Davis, DFO; or mailed or hand delivered to the Bureau of Indian Education, Attention: Jennifer Davis, DFO, 2600 N Central Ave., 12th Floor, Suite 250, Phoenix, Arizona 85004.

Accessibility Request

Please make requests in advance for sign language interpreter services, assistive listening devices, language translation services, or other reasonable accommodations. Please contact the person listed in the section FOR FURTHER INFORMATION CONTACT at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Authority: 5 U.S.C. Ch. 10.

Bryan Newland,
Assistant Secretary—Indian Affairs.

[FR Doc. 2024-28722 Filed 12-5-24; 8:45 am]

BILLING CODE 4337-15-P